DEPARTMENT OF HEALTH AND HUMAN SERVICES

National Institutes of Health

Center for Scientific Review; Amended Notice of Meeting

Notice is hereby given of a change in the meeting of the Center for Scientific Review Special Emphasis Panel, October 17, 2013, 08:00 a.m. to October 18, 2013, 05:00 p.m., Renaissance Washington DC Dupont, 1143 New Hampshire Avenue NW., Washington, DC, 20037 which was published in the Federal Register on September 20, 2013, 78 FR 57867.

The meeting will be held at the National Institutes of Health, 6701 Rockledge Drive, Bethesda, MD 20892. The meeting will start on November 25, 2013 at 08:00 a.m. and end on November 26, 2013 at 05:00 p.m. The meeting is closed to the public.

Dated: October 22, 2013.
Melanie J. Gray,
Program Analyst, Office of Federal Advisory Committee Policy.

[FR Doc. 2013-25240 Filed 10-25-13; 8:45 am]

BILLING CODE 4140-01-P